SMALL BUSINESS ADMINISTRATION

[Declaration of Disaster #3631]

State of Ohio; Amendment #1

In accordance with a notice received from the Department of Homeland Security—Federal Emergency Management Agency—effective September 21, 2004, the above numbered declaration is hereby amended to reestablish the incident period for this disaster as beginning August 27, 2004, and continuing.

All other information remains the same, i.e., the deadline for filing applications for physical damage is November 18, 2004 and for economic injury the deadline is June 20, 2005.

(Catalog of Federal Domestic Assistance Program Nos. 59002 and 59008)

Dated: September 23, 2004.
Herbert L. Mitchell,
Associate Administrator for Disaster Assistance.

[FR Doc. 04-22128 Filed 9-30-04; 8:45 am]

BILLING CODE 8025-01-U